DEPARTMENT OF THE INTERIOR

National Park Service

General Management Plan, Environmental Impact Statement, Golden Spike National Historic Site, UT

AGENCY: National Park Service, Department of the Interior.

ACTION: Notice of intent to prepare an environmental impact statement for the general management plan for Golden Spike National Historic Site.

SUMMARY: Pursuant to the National Environmental Policy Act of 1969, 42 U.S.C. 4332(2)(C), the National Park Service is preparing an environmental impact statement for the general management plan for Golden Spike National Historic Site, Utah. The Regional Director, Intermountain Region, will approve the environmental impact statement.

Golden Spike National Historic Site is in Box Elder County, Utah. The national historic site was authorized by Congress on July 30, 1965. Congress charged the Secretary with acquisition of lands “ * * * for the purpose of establishing a national historic site commemorating the completion of the first transcontinental railroad across the United States * * *” The enabling legislation also states that “the National Park Service * * * shall administer, protect, and develop such historic site, subject to the provisions of the Act entitled `An Act to establish a National Park Service, and for other purposes' ” approved August 25, 1916 (39 Stat. 525), as amended and supplemented, and the Act entitled “An Act to provide for the preservation of historic American sites buildings, objects, and antiquities of national significance, and for other purposes,” approved August 21, 1935 (49 Stat. 666), as amended.

The general management plan will prescribe the resource conditions and visitor experiences that are to be achieved and maintained in the national historic site over the next approximately 20 years. The clarification of what must be achieved according to law and policy will be based on review of the park's purpose, significance, special mandates, and the body of law and policies directing the park management. Management decisions to be made where law, policy, or regulations do not provide clear guidance or limits will be based on the purposes of the park; the range of public expectations and concerns; resource analysis; an evaluation of the natural, cultural, and social impacts of alternative courses of action; and consideration of long-term economic costs. Based on determinations of desired conditions, the general management plan will outline the kinds of resource management activities, visitor activities, land acquisition, and development that would be appropriate in the park in the future. Alternatives will be developed through this planning process and will include, at a minimum, no-action and the preferred alternative. Major issues may include, but are not limited to, the need to identify desired conditions and future management strategies for cultural and natural resources, the need to address visitor use and experience issues, and site operations concerns.

DATES: The National Park Service will conduct public scoping for 90 days from the date of publication of this notice. Open meetings regarding the general management plan may be held during the public scoping period depending on the level of public interest. Specific dates, times, and locations will be made available in the local media, or by contacting the Superintendent, Golden Spike National Historic Site.

ADDRESSES: Throughout the scoping and planning process, information will be available for public review and comment online at http://parkplanning.nps.gov/gosp, and from the office of the Superintendent, Golden Spike National Historic Site, Promontory Summit, Utah.

FOR FURTHER INFORMATION CONTACT: Leslie Crossland, Superintendent, Golden Spike National Historic Site, P.O. Box 897, Brigham City, Utah 84302-0897; TEL (435) 471-2209; FAX (435) 471-2341.

SUPPLEMENTARY INFORMATION: If you want to comment on the general management planning process for Golden Spike National Historic Site, or on any issues associated with the plan, you many submit your comments by any one of several methods. You may mail comments to Superintendent, Golden Spike National Historic Site, P.O. Box 897, Brigham City, Utah 84302-0897. You may also submit comments on the National Park Service's Planning, Environment, and Public Comment Web site at http://parkplanning.nps.gov/gosp. Finally, you may hand-deliver comments to Golden Spike Headquarters near Promontory, Utah. Before including your address, phone number, e-mail address, or other personal identifying information in your comment, you should be aware that your entire comment—including your personal identifying information—may be made publicly available at any time. Although you can ask us in your comment to withhold your personal identifying information from public review, we cannot guarantee that we will be able to do so. We will make all submissions from organizations, businesses, or individuals identifying themselves as representatives or officials of organizations or businesses available for public inspection in their entirety.

Dated: May 22, 2008.
John T. Crowley,
Acting Regional Director, Intermountain Region, National Park Service.

[FR Doc. E8-16083 Filed 7-14-08; 8:45 am]

BILLING CODE 4312-DE-P